DEPARTMENT OF THE TREASURY

United States Mint

2020 Pricing of Numismatic Gold, Commemorative Gold, Platinum, and Palladium Products Grid

AGENCY: United States Mint, Department of the Treasury.

ACTION: Notice.

The United States Mint announces 2020 revisions to include price increases for the Platinum Proof coins within the Numismatic Gold, Commemorative Gold, Platinum, and Palladium Products Grid.

An excerpt of the grid with a recent price range for the American Eagle Platinum Proof coin appears below:

The complete 2020 Pricing of Numismatic Gold, Commemorative Gold, Platinum, and Palladium Products Grid will be available at https://catalog.usmint.gov/coin-programs/american-eagle-coins.

Pricing can vary weekly depending upon the London Bullion Market Association gold, platinum, and palladium prices weekly average. The pricing for all United States Mint numismatic gold, platinum, and palladium products is evaluated every Wednesday and modified as necessary.

FOR FURTHER INFORMATION CONTACT: Cathy Olson; Numismatic and Bullion Directorate; United States Mint; 801 9th Street NW, Washington, DC 20220; or call 202-354-7500.

Authority: 31 U.S.C. 5111, 5112, & 9701.

Dated: January 22, 2020.
David J. Ryder,
Director, United States Mint.

[FR Doc. 2020-01456 Filed 1-27-20; 8:45 am]

BILLING CODE P